DEPARTMENT OF COMMERCE

Bureau of Industry and Security

15 CFR Part 745

[Docket No. 061101286-7039-02]

RIN 0694-AD85

Revisions to the Export Administration Regulations Based on U.S. Recognition of Montenegro as a Sovereign State; Correction

AGENCY: Bureau of Industry and Security, Commerce.

ACTION: Correcting amendment.

SUMMARY: The Bureau of Industry and Security (BIS) published a final rule in the Federal Register on Monday, November 27, 2006 (71 FR 68438) that amended the Export Administration Regulations (EAR) to add “Montenegro” and “Serbia” as separate countries in the EAR and to establish separate export licensing requirements for Montenegro and Serbia. The November 27, 2006, final rule omitted a conforming amendment to the list of States Parties to the Chemical Weapons Convention in the EAR. This document corrects that rule by listing Serbia and Montenegro as separate countries on that list.

DATES: Effective Date: This rule is effective March 19, 2007.

ADDRESSES: Although this is a final rule, comments are welcome and should be sent to publiccomments@bis.doc.gov, fax (202) 482-3355, or to Regulatory Policy Division, Bureau of Industry and Security, Room H2705, U.S. Department of Commerce, Washington, DC 20230. Please refer to regulatory identification number (RIN) 0694-AD85 in all comments, and in the subject line of e-mail comments. Comments on the collection of information should be sent to David Rostker, Office of Management and Budget (OMB), by e-mail to David_Rostker@omb.eop.gov, or by fax to (202) 395-7285.

FOR FURTHER INFORMATION CONTACT: Steven Emme, Regulatory Policy Division, Bureau of Industry and Security, Telephone: (202) 482-2440.

SUPPLEMENTARY INFORMATION:

Background

This document corrects an inadvertent omission in the final rule that was published by the Bureau of Industry and Security (BIS) on November 27, 2006 (71 FR 68438). The November 27, 2006 final rule did not include a conforming amendment to Supplement No. 2 to part 745 of the EAR to amend the reference to “Serbia and Montenegro”. This document corrects Supplement No. 2 to part 745 by removing “Serbia and Montenegro” and adding “Montenegro” and “Serbia”.

Although the Export Administration Act expired on August 20, 2001, the President, through Executive Order 13222 of August 17, 2001, 3 CFR, 2001 Comp., p. 783 (2002), as extended by the Notice of August 3, 2006, 71 FR 44551 (August 7, 2006), has continued the Export Administration Regulations in effect under the International Emergency Economic Powers Act.

Rulemaking Requirements

1. This final rule has been determined to be not significant for purposes of E.O. 12866.

2. Notwithstanding any other provision of law, no person is required to respond to, nor shall any person be subject to a penalty for failure to comply with, a collection of information subject to the requirements of the Paperwork Reduction Act of 1995 (44 U.S.C. 3501 et seq.) (PRA), unless that collection of information displays a currently valid Office of Management and Budget (OMB) Control Number. This rule contains a collection of information subject to the requirements of the PRA. This collection has previously been approved by OMB under control number 0694-0088 (Multi-Purpose Application), which carries a burden hour estimate of 58 minutes to prepare and submit form BIS-748. This rule is not expected to result in any change for collection purposes.

3. This rule does not contain policies with Federalism implications as that term is defined under E.O. 13132.

4. The provisions of the Administrative Procedure Act (5 U.S.C. 553) requiring notice of proposed rulemaking, the opportunity for public participation, and a delay in effective date, are inapplicable because this regulation involves a military and foreign affairs function of the United States (5 U.S.C. 553(a)(1)). Further, no other law requires that a notice of proposed rulemaking and an opportunity for public comment be given for this final rule. Because a notice of proposed rulemaking and an opportunity for public comment are not required to be given for this rule under the Administrative Procedure Act or by any other law, the analytical requirements of the Regulatory Flexibility Act (5 U.S.C. 601 et seq.) are not applicable. Therefore, this regulation is issued in final form. Although there is no formal comment period, public comments on this regulation are welcome on a continuing basis. Comments should be submitted to Steven Emme, Regulatory Policy Division, Bureau of Industry and Security, Department of Commerce, P.O. Box 273, Washington, DC 20044.

List of Subjects in 15 CFR Part 745

Administrative practice and procedure, Chemicals, Exports, Foreign trade, Reporting and recordkeeping requirements.

Accordingly, part 745 of the Export Administration Regulations (15 CFR parts 730-799) is corrected by making the following correcting amendment:

PART 745—[AMENDED]

1. The authority citation for 15 CFR part 745 continues to read as follows:

Authority: 50 U.S.C. 1701 et seq.; E.O. 12938, 59 FR 59099, 3 CFR, 1994 Comp., p. 950; Notice of October 27, 2006, 71 FR 64109 (October 31, 2006).

2. In Supplement No. 2 to part 745, States Parties to the Convention on the Prohibition of the Development, Production, Stockpiling, and Use of Chemical Weapons and on Their Destruction is amended by removing “Serbia and Montenegro” and by adding, in alphabetical order, “Montenegro” and “Serbia”.

Dated: March 9, 2007.
Eileen Albanese,
Director, Office of Exporter Services.

[FR Doc. 07-1275 Filed 3-16-07; 8:45 am]

BILLING CODE 3510-33-P